DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Nursing Home Survey on Patient Safety Culture Comparative Database.” In accordance with the Paperwork Reduction Act, 44 U.S.C. 3501-3521, AHRQ invites the public to comment on this proposed information collection.

DATES: Comments on this notice must be received by May 22, 2015.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Nursing Home Survey on Patient Safety Culture Comparative Database

Background on the Nursing Home Survey on Patient Safety Culture (Nursing Home SOPS). In 1999, the Institute of Medicine called for health care organizations to develop a “culture of safety” such that their workforce and processes focus on improving the reliability and safety of care for patients (IOM, 1999; To Err is Human: Building a Safer Health System). To respond to the need for tools to assess patient safety culture in health care, AHRQ developed and pilot tested the Nursing Home SOPS with OMB approval (OMB NO. 0935-0132; Approved July 5, 2007).

The survey is designed to enable nursing homes to assess provider and staff opinions about patient safety issues, medical error, and error reporting and includes 42 items that measure 12 dimensions of patient safety culture. AHRQ made the survey publicly available along with a Survey User's Guide and other toolkit materials in November 2008 on the AHRQ Web site (located at http://www.ahrq.gov/professionals/quality-patient-safety/patientsafetyculture/nursing-home/index.html).

The AHRQ Nursing Home SOPS Comparative Database consists of data from the AHRQ Nursing Home SOPS. Nursing homes in the U.S. are asked to voluntarily submit data from the survey to AHRQ through its contractor, Westat. The Nursing Home SOPS database (OMB NO. 0935-0195, last approved on June 12, 2012) was developed by AHRQ in 2011 in response to requests from nursing homes interested in knowing how their patient safety culture survey results compare to those of other nursing homes in their efforts to improve patient safety.

Rationale for the information collection. The Nursing Home SOPS and the Comparative Database support AHRQ's goals of promoting improvements in the quality and safety of health care in nursing home settings. The survey, toolkit materials, and comparative database results are all made publicly available on AHRQ's Web site. Technical assistance is provided by AHRQ through its contractor at no charge to nursing homes to facilitate the use of these materials for nursing home patient safety and quality improvement.

The goal of this project is to renew the Nursing Home SOPS Comparative Database. This database will:

(1) Allow nursing homes to compare their patient safety culture survey results with those of other nursing homes,

(2) Provide data to nursing homes to facilitate internal assessment and learning in the patient safety improvement process, and

(3) Provide supplemental information to help nursing homes identify their strengths and areas with potential for improvement in patient safety culture.

This study is being conducted by AHRQ through its contractor, Westat, pursuant to AHRQ's statutory authority to conduct and support research on health care and on systems for the delivery of such care, including activities with respect to: the quality, effectiveness, efficiency, appropriateness and value of health care services; quality measurement and improvement; and database development. 42 U.S.C. 299a(a)(1), (2), and (8).

Method of Collection

To achieve the goal of this project the following activities and data collections will be implemented:

(1) Eligibility and Registration Form—The nursing home (or parent organization) point of contact (POC) completes a number of data submission steps and forms, beginning with the completion of an online eligibility and registration form. The purpose of this form is to determine the eligibility status and initiate the registration process for nursing homes seeking to voluntarily submit their Nursing Home SOPS data to the Nursing Home SOPS Comparative Database.

(2) Data Use Agreement—The purpose of the data use agreement, completed by the nursing home POC, is to state how data submitted by nursing homes will be used and provides confidentiality assurances.

(3) Nursing Home Site Information Form—The purpose of the site information form is to obtain basic information about the characteristics of the nursing homes submitting their Nursing Home SOPS data to the Nursing Home SOPS Comparative Database (e.g., bed size, urbanicity, ownership, and geographic region). The nursing home POC completes the form.

(4) Data Files Submission—The number of submissions to the database is likely to vary each year because nursing homes do not administer the survey and submit data every year. Data submission is typically handled by one POC who is either a corporate level health care manager for a Quality Improvement Organization (QIO), a survey vendor who contracts with a nursing home to collect their data, or a nursing home Director of Nursing or nurse manager. POCs submit data on behalf of 5 nursing homes, on average, because many nursing homes are part of a QIO or larger nursing home or health system that includes many nursing home sites, or the POC is a vendor that is submitting data for multiple nursing homes. POCs upload their data file(s), using the nursing home data file specifications, to ensure that users submit standardized and consistent data in the way variables are named, coded, and formatted.

Survey data from the AHRQ Nursing Home SOPS are used to produce three types of products: (1) A Nursing Home SOPS Comparative Database Report that is produced periodically and made publicly available on the AHRQ Web site (see http://www.ahrq.gov/professionals/quality-patient-safety/patientsafetyculture/nursing-home/2014/nhsurv14-ptI.pdf for the 2014 report); (2) Individual Nursing Home Survey Feedback Reports that are confidential, customized reports produced for each nursing home that submits data to the database (the number of reports produced is based on the number of nursing homes submitting in any given calendar year); and (3) Research data sets of individual-level and nursing home-level de-identified data to enable researchers to conduct analyses.

Nursing homes are asked to voluntarily submit their Nursing Home SOPS survey data to the Comparative Database. The data are then cleaned and aggregated and used to produce a Comparative Database Report that displays averages, standard deviations, and percentile scores on the survey's 42 items and 12 patient safety culture dimensions, as well as displaying these results by nursing home characteristics (bed size, urbanicity, ownership, and Census Bureau Region, etc.) and respondent characteristics (work area/unit, staff position, and interaction with patients).

Data submitted by nursing homes are also used to give each nursing home its own customized survey feedback report that presents the nursing home's results compared to the latest comparative database results. If a nursing home submits data more than once, its survey feedback report also presents trend data, comparing its previous and most recent data.

Nursing homes use the Nursing Home SOPS, Comparative Database Reports and Individual Nursing Home Survey Feedback Reports for a number of purposes, to:

• Raise staff awareness about patient safety.

• Diagnose and assess the current status of patient safety culture in their nursing home.

• Identify strengths and areas for patient safety culture improvement.

• Examine trends in patient safety culture change over time.

• Evaluate the cultural impact of patient safety initiatives and interventions.

• Compare patient safety culture survey results with other nursing homes in their efforts to improve patient safety and health care quality.

Estimated Annual Respondent Burden

Exhibit 1 shows the estimated annualized burden hours for the respondents' time to participate in the database. An estimated 300 POCs, each representing an average of 5 individual nursing homes each, will complete the database submission steps and forms annually. Completing the eligibility and registration form will take about 3 minutes. Each POC will complete a data use agreement which takes about 3 minutes to complete. The Nursing Home Site Information Form is completed by all POCs for each of their nursing homes (300 x 5 = 1,500 forms in total) and is estimated to take 5 minutes to complete. The POC will submit data for all of the nursing homes he/she represents, which will take 1 hour on average. The total annual burden hours are estimated to be 455.

The 300 respondents/POCs shown in Exhibit 1 are based on an estimate of nursing homes submitting data in the coming years, with the following assumptions:

• 105 POCs for QIOs submitting on behalf of 10 nursing homes each

• 18 POCs for vendors outside of QIOs submitting on behalf of 10 nursing homes each

• 177 independent nursing homes submitting on their own behalf

Exhibit 2 shows the estimated annualized cost burden based on the respondents' time to submit their data. The cost burden is estimated to be $20,839 annually.

Exhibit 1—Estimated annualized burden hours
Form name | Number of respondents/POCs | Number of responses per POC | Hours per response | Total burden hours
Eligibility/Registration Form | 300 | 1 | 3/60 | 15
Data Use Agreement | 300 | 1 | 3/60 | 15
Nursing Home Site Information Form | 300 | 5 | 5/60 | 125
Data Files Submission | 300 | 1 | 1 | 300
Total | 1,200 | NA | NA | 455

Exhibit 2—Estimated annualized cost burden
Form name | Number of respondents/POCs | Total burden hours | Average hourly wage rate * | Total cost burden
Eligibility/Registration Forms | 300 | 15 | $45.80 | $687
Data Use Agreement | 300 | 15 | 45.80 | 687
Nursing Home Site Information Form | 300 | 125 | 45.80 | 5,725
Data Files Submission | 300 | 300 | 45.80 | 13,740
Total | 1,200 | 455 | NA | 20,839
* The wage rate in Exhibit 2 is based on May 2013 National Industry-Specific Occupational Employment and Wage Estimates, Bureau of Labor Statistics, U.S. Dept. of Labor. Mean hourly wages for nursing home POCs are located at http://www.bls.gov/oes/current/naics4_623100.htm and http://data.bls.gov/cgi-bin/print.pl/oes/current/naics2_62.htm. The hourly wage of $45.80 is the weighted mean of $47.97 (General and Operations Managers; N = 88), $40.07 (Medical and Health Services Managers; N = 89), $47.10 (General and Operations Managers; N =105) and $55.94 (Computer and Information Systems Managers; N = 18).

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: March 17, 2015.
Sharon B. Arnold,
Deputy Director, AHRQ.

[FR Doc. 2015-06451 Filed 3-20-15; 8:45 am]

BILLING CODE 4160-90-P